SMALL BUSINESS ADMINISTRATION

Military Reservist Economic Injury Disaster Loans; Interest Rate for Fourth Quarter Fiscal Year 2025

AGENCY: U.S. Small Business Administration.

ACTION: Notice.

SUMMARY: This is a notice of the Military Reservist Economic Injury Disaster Loans interest rate for loans approved on or after July 31, 2025.

DATES: Issued on August 5, 2025.

FOR FURTHER INFORMATION CONTACT: Alfonso Olivas, Disaster Loan Policy Division, Office of Financial Assistance at alfonso.olivas@sba.gov.

SUPPLEMENTARY INFORMATION: The Small Business Administration publishes an interest rate for Military Reservist Economic Injury Disaster Loans (13 CFR 123.512) on a quarterly basis. The interest rate will be 4.000% for loans approved on or after July 31, 2025.

Alfonso Olivas,
Acting Chief, Disaster Loan Policy Division, Office of Financial Assistance.

[FR Doc. 2025-14751 Filed 8-4-25; 8:45 am]

BILLING CODE 8026-09-P